DEPARTMENT OF COMMERCE

International Trade Administration

[A-533-903]

Raw Honey From India: Final Determination of Sales at Less Than Fair Value and Final Negative Determination of Critical Circumstances

AGENCY: Enforcement and Compliance, International Trade Administration, Department of Commerce.

SUMMARY: The Department of Commerce (Commerce) determines that imports of raw honey from India are being, or are likely to be, sold in the United States at less than fair value (LTFV) for the period of investigation April 1, 2020, through March 31, 2021.

DATES: Applicable April 14, 2022.

FOR FURTHER INFORMATION CONTACT: Brittany Bauer or Benito Ballesteros, AD/CVD Operations, Office V, Enforcement and Compliance, International Trade Administration, U.S. Department of Commerce, 1401 Constitution Avenue NW, Washington, DC 20230; telephone: (202) 482-3860 or (202) 482-7425, respectively.

SUPPLEMENTARY INFORMATION:

Background

On November 23, 2021, Commerce published its preliminary determination in the LTFV investigation of raw honey from India, in which we also postponed the final determination until April 7, 2022.¹ For a complete description of the events that followed the Preliminary Determination, see the Issues and Decision Memorandum.²

¹ See Raw Honey from India: Preliminary Affirmative Determination of Sales at Less Than Fair Value, Preliminary Negative Determination of Critical Circumstances, Postponement of Final Determination, and Extension of Provisional Measures, 86 FR 66528 (November 23, 2021) (Preliminary Determination), and accompanying Preliminary Decision Memorandum.

² See Memorandum, “Issues and Decision Memorandum for the Final Affirmative Determination in the Less-Than-Fair-Value Investigation of Raw Honey from India,” dated concurrently with, and hereby adopted by, this notice (Issues and Decision Memorandum).

Scope of the Investigation

The product covered by this investigation is raw honey from India. For a complete description of the scope of this investigation, see Appendix I.

Scope Comments

No interested party commented on the scope of the investigation as it appeared in the Preliminary Determination. Therefore, no changes were made to the scope of the investigation.

Analysis of Comments Received

All issues raised in the case and rebuttal briefs that were submitted by parties in this investigation are addressed in the Issues and Decision Memorandum. For a list of the issues raised by interested parties and addressed in the Issues and Decision Memorandum, see Appendix II to this notice. The Issues and Decision Memorandum is a public document and is made available to the public via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

Verification

Commerce was unable to conduct on-site verification of the information relied upon in making its final determination in this investigation. However, we took additional steps in lieu of an on-site verification to verify the information relied upon in making this final determination, in accordance with section 782(i) of the Tariff Act of 1930, as amended (the Act).³

³ For the final determination, we find that Ambrosia Natural Products (India) Private Limited is affiliated with two additional companies, Ambrosia Enterprise, and Sunlite India Agro Producer Co. Ltd., within the meaning of section 771(33) of the Act. We also find that these companies should be treated as a single entity, pursuant to 19 CFR 351.401(f). See Memorandum, “Less-Than-Fair-Value Investigation of Raw Honey from India: Final Determination Affiliation and Single Entity Memorandum for Ambrosia Natural Products (India) Private Limited,” dated April 7, 2022. We collectively refer to these companies as “Ambrosia.” See also Commerce's Letters, “Antidumping Duty Investigation of Raw Honey from India: In-Lieu of Verification Questionnaire,” both dated January 6, 2022; Allied Natural Product (Allied)'s Letter, “Raw Honey from India: In-Lieu-of-Verification Questionnaire Response,” dated January 18, 2022; and Ambrosia's Letter, “Raw Honey from India: Ambrosia Natural Products (`Ambrosia') Response to In Lieu of On-Site Verification of the Antidumping Duty Investigation of Raw Honey,” dated January 18, 2022.

Final Negative Determination of Critical Circumstances

Commerce preliminarily determined that critical circumstances do not exist for the two mandatory respondents in this investigation, Allied and Ambrosia, or with respect to all other producers/exporters. No parties submitted comments regarding our negative preliminary critical circumstances determination, and the factual basis for the preliminary negative finding remains unchanged for this final determination. Therefore, in accordance with section 735(a)(3) of the Act and 19 CFR 351.206, Commerce finds that critical circumstances do not exist for Allied, Ambrosia, and all other producers/exporters. For a full description of the methodology and results of Commerce's critical circumstances analysis, see the Issues and Decision Memorandum.

Changes Since the Preliminary Determination

Based on the comments received from interested parties and record information, we made certain changes to the weighted-average dumping margin calculations for Allied and Ambrosia. For a discussion of these changes, see the Issues and Decision Memorandum.

All-Others Rate

Section 735(c)(5)(A) of the Act provides that the estimated weighted-average dumping margin for all other producers and exporters not individually investigated shall be equal to the weighted average of the estimated weighted-average dumping margins established for exporters and producers individually investigated, excluding rates that are zero, de minimis, or determined entirely under section 776 of the Act.

In this investigation, Commerce calculated estimated weighted-average dumping margins for Allied and Ambrosia that are not zero, de minimis, or based entirely on facts otherwise available. Commerce calculated the all-others rate using a weighted average of the estimated weighted-average dumping margins calculated for the examined respondents weighted by each respondent's publicly-ranged total U.S. sale values for the merchandise under consideration.⁴

⁴ With more than one respondent under examination, Commerce normally calculates: (A) A weighted-average of the estimated weighted-average dumping margins calculated for the examined respondents; (B) a simple average of the estimated weighted-average dumping margins calculated for the examined respondents; and (C) a weighted-average of the estimated weighted-average dumping margins calculated for the examined respondents using each company's publicly-ranged U.S. sale values for the merchandise under consideration. Commerce then compares (B) and (C) to (A) and selects either the (B) or (C) rate based on the rate closest to (A) as the most appropriate rate for all other producers and exporters. See, e.g., Ball Bearings and Parts Thereof from France, Germany, Italy, Japan, and the United Kingdom: Final Results of Antidumping Duty Administrative Reviews, Final Results of Changed-Circumstances Review, and Revocation of an Order in Part, 75 FR 53661, 53663 (September 1, 2010). As complete publicly-ranged sales data are available, Commerce based the all-others rate on the publicly-ranged sales data of the mandatory respondents. For a complete analysis of the data, see Memorandum, “Less-Than-Fair-Value Investigation of Raw Honey from India: Calculation of All-Others Rate,” dated April 7, 2021.

Final Determination

The final estimated weighted-average dumping margins are as follows:

Exporter/producer | Estimated weighted-average dumping margin (percent)
Allied Natural Product | 6.24
Ambrosia Natural Products (India) Private Limited/Ambrosia Enterprise/Sunlite India Agro Producer Co. Ltd | 5.52
All Others | 5.87

Disclosure

We intend to disclose the calculations performed in this final determination within five days of the date of publication of this notice to parties in this proceeding in accordance with 19 CFR 351.224(b).

Continuation of Suspension of Liquidation

In accordance with section 735(c)(1)(B) of the Act, Commerce will instruct U.S. Customs and Border Protection (CBP) to continue to suspend liquidation of all appropriate entries of raw honey from India, as described in Appendix I of this notice, which are entered, or withdrawn from warehouse, for consumption on or after November 23, 2021, the date of publication in the Federal Register of the affirmative Preliminary Determination.

Pursuant to section 735(c)(1)(B)(ii) of the Act and 19 CFR 351.210(d), we will instruct CBP to require a cash deposit equal to the estimated weighted-average dumping margin as follows: (1) The cash deposit rate for the respondents listed above will be equal to the respondent-specific estimated weighted-average dumping margin determined in this final determination; (2) if the exporter is not a respondent identified above, but the producer is, then the cash deposit rate will be equal to the respondent-specific estimated weighted-average dumping margin established for that producer of the subject merchandise; and (3) the cash deposit rate for all other producers and exporters will be equal to the all-others estimated weighted-average dumping margin. These suspension-of-liquidation instructions will remain in effect until further notice.

International Trade Commission Notification

In accordance with section 735(d) of the Act, we will notify the International Trade Commission (ITC) of this final affirmative determination of sales at LTFV. Because Commerce's final determination is affirmative, in accordance with section 735(b)(2) of the Act, the ITC will make its final determination as to whether the domestic industry in the United States is materially injured, or threatened with material injury, by reason of imports or sales (or the likelihood of sales) for importation of raw honey from India no later than 45 days after this final determination. If the ITC determines that such injury does not exist, this proceeding will be terminated, and all cash deposits posted will be refunded and suspension of liquidation will be lifted. If the ITC determines that such injury does exist, Commerce will issue an antidumping duty order directing CBP to assess, upon further instruction by Commerce, antidumping duties on all imports of the subject merchandise entered, or withdrawn from warehouse, for consumption on or after the effective date of the suspension of liquidation.

Notification Regarding Administrative Protective Order

This notice will serve as the only reminder to parties subject to an administrative protective order (APO) of their responsibility concerning the destruction of proprietary information disclosed under APO in accordance with 19 CFR 351.305(a)(3). Timely written notification of return or destruction of APO materials or conversion to judicial protective order is hereby requested. Failure to comply with the regulations and the terms of an APO is a violation which is subject to sanction.

Notification to Interested Parties

This determination and this notice are issued and published pursuant to sections 735(d) and 777(i)(1) of the Act, and 19 CFR 351.210(c).

Dated: April 7, 2022.
Lisa W. Wang,
Assistant Secretary for Enforcement and Compliance.

Appendix I—Scope of the Investigation

The merchandise covered by this investigation is raw honey. Raw honey is honey as it exists in the beehive or as obtained by extraction, settling and skimming, or coarse straining. Raw honey has not been filtered to a level that results in the removal of most or all of the pollen, e.g., a level that removes pollen to below 25 microns. The subject products include all grades, floral sources and colors of raw honey and also include organic raw honey.

Excluded from the scope is any honey that is packaged for retail sale (e.g., in bottles or other retail containers of five (5) lbs. or less).

The merchandise subject to this investigation is currently classifiable under statistical subheading 0409.00.0005, 0409.00.0035, 0409.00.0045, 0409.00.0056, and 0409.00.0065 of the Harmonized Tariff Schedule of the United States (HTSUS). Although the HTSUS subheadings are provided for convenience and customs purposes, the written description of the scope of this investigation is dispositive.

Appendix II—List of Topics Discussed in the Issues and Decision Memorandum

I. Summary

II. Background

III. Final Negative Determination of Critical Circumstances

IV. Changes Since the Preliminary Determination

V. Discussion of the Issues

General Issues

Comment 1: Whether to Find a Particular Market Situation in the Indian Raw Honey Market

Comment 2: Whether to Use Acquisition Cost as a Proxy for the Beekeepers' Cost of Production (COP)

Comment 3: Whether to Apply Total Adverse Facts Available (AFA) to Allied and Ambrosia for Alleged Failure to Submit Complete and Audited Financial Statements

Comment 4: Application of AFA to Allied and Ambrosia due to Certain Aspects of the Cost Responses Submitted by Middlemen and Beekeeper-Suppliers

Allied-Specific Issues

Comment 5: Whether to Continue to Rely on Quarterly Average Costs

Comment 6: Whether to Make Certain Adjustments to Credit Expenses

Comment 7: Whether to Make Certain Adjustments for Returned Sales

Ambrosia-Specific Issues

Comment 8: Whether to Make Certain Adjustments for Returned Sales

Comment 9: Whether to Make Certain Adjustments to Credit Expenses

Comment 10: Whether to Make Certain Adjustments for Packing Expenses

VI. Recommendation

[FR Doc. 2022-07994 Filed 4-13-22; 8:45 am]

BILLING CODE 3510-DS-P